DEPARTMENT OF TRANSPORTATION

Federal Aviation Administration

14 CFR Part 39

[Docket No. FAA-2007-0334; Directorate Identifier 2007-NM-206-AD; Amendment 39-15385; AD 2008-04-13]

RIN 2120-AA64

Airworthiness Directives; ATR Model ATR42 and ATR72 Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

[T]he FAA has published a set of new rules related to the fuel tank safety, including the Special Federal Aviation Regulation 88 (SFAR 88).

The JAA (Joint Aviation Authority) has issued an Interim Policy JAA INT/POL 25/12, to recommend the application of a similar requirement to the National Aviation Authorities (NAA) [of Europe].

* * * * *

* * * ATR carried out a safety review on the fuel tank systems and zones adjacent to the fuel tanks on all ATR models * * *.

* * * * *

The unsafe condition is the potential of ignition sources inside fuel tanks, which, in combination with flammable fuel vapors, could result in fuel tank explosions and consequent loss of the airplane. We are issuing this AD to require actions to correct the unsafe condition on these products.

DATES: This AD becomes effective March 28, 2008.

The Director of the Federal Register approved the incorporation by reference of certain publications listed in this AD as of March 28, 2008.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Discussion

We issued a notice of proposed rulemaking (NPRM) to amend 14 CFR part 39 to include an AD that would apply to the specified products. That NPRM was published in the Federal Register on December 17, 2007 (72 FR 71286). That NPRM proposed to correct an unsafe condition for the specified products. The MCAI states:

[T]he FAA has published a set of new rules related to the fuel tank safety, including the Special Federal Aviation Regulation 88 (SFAR 88).

The JAA (Joint Aviation Authority) has issued an Interim Policy JAA INT/POL 25/12, to recommend the application of a similar requirement to the National Aviation Authorities (NAA) [of Europe].

This recommendation was followed by French DGAC, which rendered the compliance to JAA INT/POL 25/12 mandatory for all ATR Aircraft.

Under this regulation, all holders of type certificates are required to conduct a design review of their fuel tank systems against explosion risk. It also requires the development and implementation of maintenance and inspection instructions to maintain the safety of the fuel tank system.

To answer JAA INT/POL 25/12, and in accordance with SFAR 88 requirements and guideline, ATR carried out a safety review on the fuel tank systems and zones adjacent to the fuel tanks on all ATR models using relevant safety assessment methods of JAR 25.1309.

As a result of this safety review, ATR developed for ATR 42 the modification 05355 (SB (service bulletin) ATR 42-28-0039), and for ATR 72 the modification 05356 (SB ATR 72-28-1019). Those modifications consist in the installation of fuses adapters on wiring entering the fuel tanks and current limitation devices. For ATR 72 aircraft, the modification also requires replacement of the high level sensors with new sensors having shorter harness.

The modification also includes related investigative and corrective actions, which include inspecting the electrical harness for correct installation and adjusting the harness as necessary, and, for Model ATR 42 airplanes, inspecting the bonding strap for correct installation and adjusting the bonding strap. The unsafe condition is the potential of ignition sources inside fuel tanks, which, in combination with flammable fuel vapors, could result in fuel tank explosions and consequent loss of the airplane. You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect about 55 products of U.S. registry. We also estimate that it will take about 150 work-hours per product to comply with the basic requirements of this AD. The average labor rate is $80 per work-hour. Required parts will cost about $23,000 per product. Where the service information lists required parts costs that are covered under warranty, we have assumed that there will be no charge for these parts. As we do not control warranty coverage for affected parties, some parties may incur costs higher than estimated here. Based on these figures, we estimate the cost of this AD to the U.S. operators to be $1,925,000, or $35,000 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-04-13 ATR—GIE Avions de Transport Regional (formerly Aerospatiale): Amendment 39-15385. Docket No. FAA-2007-0334; Directorate Identifier 2007-NM-206-AD.

Effective Date

(a) This airworthiness directive (AD) becomes effective March 28, 2008.

Affected ADs

(b) None.

Applicability

(c) This AD applies to the airplanes specified in paragraphs (c)(1) and (c)(2) of this AD.

(1) ATR Model ATR42-200, -300, -320, and -500 airplanes, certificated in any category, serial numbers 1 through 642.

(2) ATR Model ATR72-101, -201, -102, -202, -211, -212, and -212A airplanes, certificated in any category, serial numbers 1 through 724.

Subject

(d) Air Transport Association (ATA) of America Code 28: Fuel.

Reason

(e) The mandatory continuing airworthiness information (MCAI) states:

[T]he FAA has published a set of new rules related to the fuel tank safety, including the Special Federal Aviation Regulation 88 (SFAR 88).

The JAA (Joint Aviation Authority) has issued an Interim Policy JAA INT/POL 25/12, to recommend the application of a similar requirement to the National Aviation Authorities (NAA) [of Europe].

This recommendation was followed by French DGAC, which rendered the compliance to JAA INT/POL 25/12 mandatory for all ATR Aircraft.

Under this regulation, all holders of type certificates are required to conduct a design review of their fuel tank systems against explosion risk. It also requires the development and implementation of maintenance and inspection instructions to maintain the safety of the fuel tank system.

To answer JAA INT/POL 25/12, and in accordance with SFAR 88 requirements and guideline, ATR carried out a safety review on the fuel tank systems and zones adjacent to the fuel tanks on all ATR models using relevant safety assessment methods of JAR 25.1309.

As a result of this safety review, ATR developed for ATR 42 the modification 05355 (SB (service bulletin) ATR 42-28-0039), and for ATR 72 the modification 05356 (SB ATR 72-28-1019). Those modifications consist in the installation of fuses adapters on wiring entering the fuel tanks and current limitation devices. For ATR 72 aircraft, the modification also requires replacement of the high level sensors with new sensors having shorter harness.

The modification also includes related investigative and corrective actions, which include inspecting the electrical harness for correct installation and adjusting the harness as necessary, and, for Model ATR42 airplanes, inspecting the bonding strap for correct installation and adjusting the bonding strap. The unsafe condition is the potential of ignition sources inside fuel tanks, which, in combination with flammable fuel vapors, could result in fuel tank explosions and consequent loss of the airplane.

Actions and Compliance

(f) Within 41 months after the effective date of this AD, unless already done, modify the fuel system and do all applicable related investigative and corrective actions according to the instructions given by the applicable service bulletin listed in Table 1 of this AD. Do all applicable related investigative and corrective actions before further flight. Actions accomplished before the effective date of this AD in accordance with Avions de Transport Regional Service Bulletin ATR 42-28-0039, Revision 03, dated November 15, 2006, are considered acceptable for compliance with the corresponding action specified in this AD.

Table 1.—Service Information
Avions de Transport Regional service bulletin | Revision level | Date
ATR42-28-0039 (for Model ATR42 Airplanes) | 04 | June 12, 2007.
ATR72-28-1019 (for Model ATR72 Airplanes) | 05 | June 12, 2007.

FAA AD Differences

Note: This AD differs from the MCAI and/or service information as follows: The additional actions specified in the MCAI for operators that have done actions in accordance with previous issues of the service bulletins are not complete. Therefore, this AD only refers to Avions de Transport Regional Service Bulletins ATR 42-28-0039, Revision 03, dated November 15, 2006; Revision 04, dated June 12, 2007; and ATR 72-28-1019, Revision 05, dated June 12, 2007; as appropriate sources of service information for accomplishing the required actions. Operators that have done actions in accordance with previous issues of the service bulletins may request an approval for an alternative method of compliance (AMOC) according to paragraph (g) of this AD, provided that the AMOC provides an acceptable level of safety.

Other FAA AD Provisions

(g) The following provisions also apply to this AD:

(1) Alternative Methods of Compliance (AMOCs): The Manager, ANM-116, International Branch, Transport Airplane Directorate, FAA, has the authority to approve AMOCs for this AD, if requested using the procedures found in 14 CFR 39.19. Send information to ATTN: Tom Rodriguez, Aerospace Engineer, International Branch, ANM-116, Transport Airplane Directorate, FAA, 1601 Lind Avenue, SW., Renton, Washington 98057-3356; telephone (425) 227-1137; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI EASA Airworthiness Directive 2007-0226, dated August 24, 2007, and the service information listed in Table 2 of this AD, for related information.

Table 2.—Related Service Information
Avions de Transport Regional service bulletin | Revision level | Date
ATR42-28-0039 | 04 | June 12, 2007.
ATR72-28-1019 | 05 | June 12, 2007.

Material Incorporated by Reference

(i) You must use Avions de Transport Regional Service Bulletin ATR42-28-0039, Revision 04, dated June 12, 2007; or Avions de Transport Regional Service Bulletin ATR72-28-1019, Revision 05, dated June 12, 2007; as applicable; to do the actions required by this AD, unless the AD specifies otherwise. Avions de Transport Regional Service Bulletin ATR42-28-0039, Revision 04, dated June 12, 2007, contains the following effective pages:

Page Nos. | Revision level shown on page | Date shown on page
1-6, 8-10, 16-18, 45-48, 92, 93 | 04 | June 12, 2007.
7, 11, 51 | 1 | February 28, 2006.
12-15, 19-26, 31, 32, 39, 40, 67, 68, 79, 80, 91 | 03 | November 15, 2006.
27-30, 33-38, 41-44, 49, 50, 53-66, 69-78, 81-90 | Original | August 1, 2005.
52 | 02 | August 10, 2006.

Avions de Transport Regional Service Bulletin ATR72-28-1019, Revision 05, dated June 12, 2007, contains the following effective pages:

Page No. | Revision level shown on page | Date shown on page
1-8, 13-15, 18, 37, 38, 66 | 05 | June 12, 2007.
9, 51, 52 | 1 | February 28, 2006.
10-12, 17, 21-36, 39-48, 53, 54, 57, 58, 61-64 | Original | August 1, 2005.
16, 65 | 02 | August 10, 2006.
19, 20, 49, 50, 55, 56, 59, 60 | 03 | September 29, 2006.

(1) The Director of the Federal Register approved the incorporation by reference of this service information under 5 U.S.C. 552(a) and 1 CFR part 51.

(2) For service information identified in this AD, contact ATR, 316 Route de Bayonne, 31060 Toulouse, Cedex 03, France.

(3) You may review copies at the FAA, Transport Airplane Directorate, 1601 Lind Avenue, SW., Renton, Washington; or at the National Archives and Records Administration (NARA). For information on the availability of this material at NARA, call (202) 741-6030, or go to: http://www.archives.gov/federal-register/cfr/ibr-locations.html.

Issued in Renton, Washington, on February 13, 2008.
Stephen P. Boyd,
Assistant Manager, Transport Airplane Directorate, Aircraft Certification Service.

[FR Doc. E8-3188 Filed 2-21-08; 8:45 am]

BILLING CODE 4910-13-P